DEPARTMENT OF TRANSPORTATION

Research and Special Programs Administration

Office of Hazardous Materials Safety; Notice of Applications for Exemptions

AGENCY: Research and Special Programs Administration, DOT.

ACTION: List of Applicants for Exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before February 26, 2001.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53 (b)).

Issued in Washington, DC, on January 22, 2001.
J. Suzanne Hedgepeth,
Director, Office of Hazardous Materials Exemptions and Approvals.

Application No. | Docket No. | Applicant | Regulation(s) affected | Nature of exemption thereof
12607-N | RSPA-01-8641 | FIBA Technologies Inc., Westboro, MA | 49 CFR (vi), 173.34(e)(1), (e)(3), (e)(4), (e)(8), (e)(14), (e)(15) | To authorize an alternative method of retest for DOT 3AL seamless cylinders manufactured from 6061 alloy for use in transporting Division 2.1, 2.2 and 2.3 materials. (modes 1, 2, 3, 4, 5).
12608-N | RSPA-01-8639 | Solvay Interox, Inc., Houston, TX | 49 CFR 172.102(c)(7)(ii) | To authorize the transportation in commerce of hydrogen peroxide aqueous solutions in concentrations exceeding 72 percent but not exceeding 92 percent in DOT specification IM 101 steel portable tanks. (modes 1, 3).
12609-N | RSPA-01-8640 | Department of Defense (DOD), Alexandria, VA | 49 CFR 171.14(a)(1), 171.8 | To authorize the transportation in commerce of non-bulk packagings containing Class 8 material that are no longer authorized for transportation. (mode 1).
12611-N | RSPA-01-8635 | Hodgdon Powder Co., Inc., Shawnee Mission, KS | 49 CFR 173.171 | To authorize the transportation in commerce of smokeless powder for shipments of small arms in quantities that exceed the prescribed limit. (modes 1, 2, 3).
12612-N | RSPA-01-8637 | Genlabs, Chino, CA | 49 CFR 173.156 | To authorize the transportation in commerce of small quantities of Class 8 material in non-bulk packages in quantities that exceed the weight allowable per pallet. (mode 1).
12613-N | RSPA-01-8702 | Nova Chemical Co., Red Deer, Alberta, CN | 49 CFR 172.203(a), 173.31(c)(1), 179.13 | To authorize the transportation in commerce of a Class 3 material in DOT112J340 tank cars with a maximum gross weight on rail that exceed the maximum limit of 263,000 pounds. (mode 2).

[FR Doc. 01-2403 Filed 1-25-01; 8:45 am]

BILLING CODE 4910-60-M